DEPARTMENT OF TRANSPORTATION

Federal Aviation Administration

Passenger Facility Charge Audit Guide for Air Carriers—Procedures for Examining Air Carrier Passenger Facility Charge Collection, Remittance, and Reporting Practices

AGENCY: Federal Aviation Administration, Department of Transportation.

ACTION: Final Guidance Notice of Availability.

SUMMARY: The Federal Aviation Administration (FAA) is issuing final guidance for conducting annual audits of air carrier Passenger Facility Charge (PFC) collection remittance, and reporting practices. An air carrier collecting PFC's from at least 50,000 passengers annually is required to provide for an annual audit of its PFC accounts by an accredited independent public accountant. An auditor engaged to audit the air carrier's PFC accounts is required to report “on the fairness and reasonableness of the carrier's procedures for collecting, holding, and dispersing PFC revenues.” In addition, an auditor is required to report whether the quarterly reports of PFC accounts that the air carriers must provide to airports “fairly represent the net transactions in the PFC account.”

The guidance is issued in final form after a review and comment period, during which the FAA evaluated the use of the guidance. Although the FAA did not receive formal comments on the use of the guidance, informal discussions with audit practitioners has lead the FAA to determine that the guidance meets its intended objectives. While the use of the guidance is voluntary, the FAA will have greater confidence in audits conducted in accordance with the guide.

Interested parties may access the Passenger Facility Charge Audit Guide for Air Carriers through the Internet at http://www.faa.gov/arp/Reports/acaudit.pdf.

Interested parties may access the Passenger Facility Charge Audit Guide for Air Carriers through the Internet at http://www.faa.gov/arp/Reports/acaudit.pdf. Alternatively, the guide may be obtained by contacting the individual listed below under the heading FOR FURTHER INFORMATION CONTACT.

DATES: Final guidance effective July 26, 2002.

FOR FURTHER INFORMATION CONTACT: Joseph Hebert, Program Analyst, Passenger Facility Charge Branch, Airports Financial Assistance Division (APP-530), Federal Aviation Administration, 800 Independence Avenue, SW., Washington, DC 20591, (202) 267-3845.

Issued in Washington, DC on July 22, 2002.
Catherine M. Lang,
Director, Office of Airport Planning and Programming.

[FR Doc. 02-18999 Filed 7-25-02; 8:45 am]

BILLING CODE 4910-13-M